FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 28, 2011.

A. Federal Reserve Bank of San Francisco (Kenneth Binning, Vice President, Applications and Enforcement) 101 Market Street, San Francisco, California 94105-1579:

1. Susan Marie Horton, Cheney, Washington; Raymond Lee Pittman, Jr., Mesa, Arizona; Rosa Maria Pittman, Spokane, Washington; Ted Davis Rhodes, Spokane Valley, Washington; and Wheatland Bank Employee Stock Ownership Plan, Spokane, Washington; together as a group acting in concert to retain voting shares of Community Financial Group, Inc., and thereby indirectly retain voting shares of Wheatland Bank, both of Spokane, Washington.

2. Wheatland Bank Employee Stock Ownership Plan, Spokane, Washington, and its trustees, Susan Marie Horton, Cheney, Washington; Dennis Dale Bly, Davenport, Washington; and Jayne Therese Deife, Marlin, Washington; to retain voting shares of Community Financial Group, Inc., and thereby indirectly retain voting shares of Wheatland Bank, both of Spokane, Washington.

Board of Governors of the Federal Reserve System, April 8, 2011.
Robert deV. Frierson,
Deputy Secretary of the Board.

[FR Doc. 2011-8821 Filed 4-12-11; 8:45 am]

BILLING CODE 6210-01-P